SECURITIES AND EXCHANGE COMMISSION

[File No. 500-1]

In the Matter of: Struthers, Inc. (n/k/a Global Marine, Ltd.), Sun Vacation Properties Corp., and Sunshine Mining & Refining Co.,; Order of Suspension of Trading

June 10, 2008.

It appears to the Securities and Exchange Commission that there is a lack of current and accurate information concerning the securities of Struthers, Inc. (n/k/a Global Marine Ltd.) because it has not filed any periodic reports since the period ended September 30, 2001.

It appears to the Securities and Exchange Commission that there is a lack of current and accurate information concerning the securities of Sun Vacation Properties Corp. because it has not filed any periodic reports since the period ended December 31, 2003.

It appears to the Securities and Exchange Commission that there is a lack of current and accurate information concerning the securities of Sunshine Mining & Refining Co. because it has not filed any periodic reports since September 30, 2001.

The Commission is of the opinion that the public interest and the protection of investors require a suspension of trading in the securities of the above-listed companies.

Therefore, it is ordered, pursuant to section 12(k) of the Securities Exchange Act of 1934, that trading in the above-listed companies is suspended for the period from 9:30 a.m. EDT on June 10, 2008, through 11:59 p.m. EDT on June 23, 2008.

By the Commission.
Jill M. Peterson,
Assistant Secretary.

[FR Doc. 08-1347 Filed 6-10-08; 10:23 am]

BILLING CODE 8010-01-P